DEPARTMENT OF ENERGY

Federal Energy Regulatory Commission

[ Docket No. RP11-2253-000]

Columbia Gas Transmission, LLC; Notice of Technical Conference

On July 28, 2011, the Commission accepted and suspended the tariff records that Columbia Gas Transmission, LLC (Columbia) filed to update its Transportation Cost Rate Adjustment (TCRA) surcharge outside the usual annual filing schedule, subject to refund and to the outcome of a technical conference.¹ Pursuant to the Commission's order, the issues to be addressed at this conference include, but are not limited to: (1) The reduction in receipts in northern Ohio; (2) Columbia's proposed solution as well as other options that it may have considered, and; (3) Columbia's contracting for additional Millennium Pipeline capacity.

¹ Columbia Gas Transmission, LLC, 136 FERC ¶ 61,062 (2011).

Take notice that a technical conference to discuss the issues raised by Columbia's filings will be held on Thursday, September 8, 2011 at 10 a.m. (E.S.T.), in a room to be designated at the offices of the Federal Energy Regulatory Commission, 888 First Street, NE., Washington, DC 20426.

Federal Energy Regulatory Commission conferences are accessible under section 508 of the Rehabilitation Act of 1973. For accessibility accommodations please send an e-mail to accessibility@ferc.gov or call toll free 1-866-208-3372 (voice) or 202-208-1659 (TTY), or send a FAX to 202-208-2106 with the required accommodations.

All interested persons, parties, and staff are permitted to attend. FOR FURTHER INFORMATION CONTACT Vince Mareino at (202) 502-6167.

Dated: August 12, 2011.
Kimberly D. Bose,
Secretary.

[FR Doc. 2011-21156 Filed 8-18-11; 8:45 am]

BILLING CODE 6717-01-P